DEPARTMENT OF ENERGY

Federal Energy Regulatory Commission

[Docket No. CP07-444-000; Docket No. CP07-441-000]

Jordan Cove Energy Project, L.P.; Pacific Connector Gas Pipeline Project, L.P.; Notice of Public Meetings To Take Comments on the Draft Environmental Impact Statement for the Proposed Jordan Cove Energy and Pacific Connector Gas Pipeline Project

September 19, 2008.

The staff of the Federal Energy Regulatory Commission (FERC or Commission) is issuing this notice to announce a series of public meetings to take comments on the draft Environmental Impact Statement (EIS) issued by the FERC on August 29, 2008, for the proposed Jordan Cove Energy liquefied natural gas (LNG) Project and Pacific Connector Gas Pipeline Project. The draft EIS addresses the proposal by Jordan Cove Energy Project, L.P. (Jordan Cove) to construct and operate an LNG import terminal on Coos Bay in Coos County, Oregon, in Docket No. CP07-444-000, and the proposal by Pacific Connector Gas Pipeline, L.P. to construct a 230-mile-long natural gas sendout pipeline that would cross portions of Coos, Douglas, Jackson, and Klamath Counties, Oregon, in Docket No. CP07-441-000. The proposed pipeline would connect the proposed Jordan Cove LNG terminal with existing interstate pipeline systems operated by Williams Northwest Pipeline Corporation, Gas Transmission Northwest Corporation, Tuscarora Gas Transmission Company, and Pacific Gas and Electric Company, and with an existing local distribution pipeline system operated by Avista Corporation.

The FERC staff produced the draft EIS in cooperation with the U.S. Department of Agriculture Forest Service, U.S. Army Corps of Engineers, U.S. Environmental Protection Agency, U.S. Department of Homeland Security Coast Guard, U.S. Department of the Interior Bureau of Land Management and Bureau of Reclamation, U.S. Department of Transportation, and Douglas County, Oregon. The draft EIS was delivered to the U.S. Environmental Protection Agency, and mailed to various federal, state, and local government agencies, elected officials, affected landowners, regional environmental organizations, Indian tribes, local libraries and newspapers, intervenors, and other interested parties.

The issuance of the draft EIS was noticed in the Federal Register on September 5, 2008 (73 FR 51815). The deadline for comments on the draft EIS is December 4, 2008. In addition to, or in lieu of, sending in written comments on the draft EIS, the FERC and cooperating agencies invite you to attend the public comment meetings that will be held in the project area in October 2008, on the dates, times, and locations listed below.

Date and Time | Location
Monday, October 27, 2008, 6:30 p.m. to 10 p.m. (PST) | North Bend Community Center, 2222 Broadway Street, North Bend, Oregon 97459. Telephone: 541-756-8500.
Tuesday, October 28, 2008, 6:30 p.m. to 10 p.m. (PST) | Umpqua Community College, Campus Center Dining Room/Timber Room, 1140 Umpqua College Road, Roseburg, Oregon 97470, Telephone: 541-440-4600.
Wednesday, October 29, 2008, 6:30 p.m. to 10 p.m. (PST) | Red Lion Inn, Rogue River Ballroom, 200 N. Riverside Avenue, Medford, Oregon 97501, Telephone: 541-779-5811.
Thursday, October 30, 2008, 6:30 p.m. to 10 p.m. (PST) | Oregon Institute of Technology, College Union Auditorium, 3201 Campus Drive, Klamath Falls, Oregon 97601, Telephone: 541-885-1000, 1032.

These events are posted on the Commission's calendar located at http://www.ferc.gov/EventCalendar/EventsList.aspx along with other related information. For additional information, please contact the Commission's Office of External Affairs at 1-866-208-FERC.

Kimberly D. Bose,
Secretary.

[FR Doc. E8-22627 Filed 9-25-08; 8:45 am]

BILLING CODE 6717-01-P